DEPARTMENT OF JUSTICE

Office of Justice Programs

[OMB Number 1121-0306]

Agency Information Collection Activities: Proposed Collection; Comments Requested

ACTION: 60-Day notice of information collection under review: Reinstatement, with change, of a previously approved collection for which approval has expired, State Court Processing Statistics 2009.

The Department of Justice, Office of Justice Programs, Bureau of Justice Statistics, will be submitting the following information collection request for review and clearance in accordance with the Paperwork Reduction Act of 1995. The proposed information collection is published to obtain comments from the public and affected agencies. Comments are encouraged and will be accepted for “sixty days” until March 22, 2010. This process is conducted in accordance with 5 CFR 1320.10.

If you have additional comments, especially on the estimated public burden or associated response time, suggestions, or need a copy of the proposed information collection instrument with instructions or additional information, please contact: Thomas H. Cohen, (202) 514-8344, Bureau of Justice Statistics, Office of Justice Programs, Department of Justice, 810 Seventh Street, NW., Washington, DC 20531 or Thomas.H.Cohen@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Reinstatement, with change, of a previously approved collection for which OMB approval has expired, State Court Processing Statistics, 2009.

(2) The title of the form/collection: State Court Processing Statistics, 2009.

(3) The agency form number, if any, and the applicable component of the Department sponsoring the collection: The form labels are SCPS—2009, SATCS—2009, Bureau of Justice Statistics, Office of Justice Programs, U.S. Department of Justice.

(4) Affected Public Who Will be Asked or Required to Respond, as well as a Brief Abstract: State Trial Courts and Pretrial Agencies. Abstract: The State Court Processing Statistics (SCPS) project covers felony case processing in a sample of the nation's 75 most populous counties on a recurring basis. In the SCPS data collection program, felony defendants are tracked for up to 1 year with data collected on a variety of felony case processing characteristics. These include the types of arrest charges filed against felony defendants, conditions of pretrial release, and pretrial misconduct which includes the court appearance record, violations of release conditions, and re-arrests committed while on pretrial release. The adjudication outcomes encompassing the dismissal, diversion, guilty plea, and trial conviction rates for felony defendants are also recorded. For those defendants convicted, sentencing data are collected. The SCPS 2009 project also involves collecting aggregate information on the electronic data storage and transfer capacities of courts located in a sample of the nation's 900 most populous counties.

(5) An Estimate of the Total Number of Respondents and the Amount of Time Estimated for an Average Respondent to Respond: It is estimated that information will be collected on a total of 15,000 felony defendants from 40 responding counties. The estimated burden hours will be contingent upon the counties electronic storage and transfer capabilities. Data collection will occur in a more timely and expeditious manner among counties with the capacities to electronically transfer all their case processing, pretrial, and criminal history information to the data collection agent. It is estimated that about 10 of the 40 counties have the capacity to transfer entire files of SCPS cases and that it should take these counties about 15 hours per county to produce programs capable of transferring the SCPS data to the data collection agent. For the remaining 30 counties that lack the capacity to engage in electronic transfers, data collection will involve manually coding the SCPS survey forms for an online or paper based submission. Prior SCPS data collection endeavors show an estimated one hour to manually code each SCPS case for online or paper based submission. In addition to collecting case processing information, courts located in 200 jurisdictions will be asked to complete a spreadsheet surveying their overall levels of case and pretrial automation. Pretests of the instrument found that the average time to complete the spreadsheet was about 2 hours per trial court.

(6) An Estimate of the Total Public Burden (in hours) Associated with the Collection: The estimated public burden associated for the SCPS data collection is 11,800 hours. In the 30 counties in which SCPS cases are manually coded for paper or online based submission, an estimated 11,250 data collection forms (375 forms per county) will be coded and it should take an estimated one hour to code each data collection form. Hence, the estimated public burden associated with the manual based collection of SCPS data forms should be about 11,250 hours. In the 10 counties in which SCPS cases can be transferred through computerized case management systems, it should take an estimated 150 hours (15 hours per county) to generate the programs capable of transferring information for these SCPS cases. Lastly, about 400 hours will be required to complete the spreadsheets surveying the overall levels of case and pretrial automation for courts located in 200 counties (200 counties multiplied by 2 hours per spreadsheet). Therefore, the total burden time for the SCPS 2009 project should be about 11,800 hours (11,250 hours for manual based data collection + 150 hours for computerized transfer of automated SCPS data + 400 hours for the survey of court automation capacities).

If additional information is required contact: Ms. Lynn Bryant, Department Clearance Officer, United States Department of Justice, Justice Management Division, Policy and Planning Staff, Suite 1600, 601 D Street, NW., Washington, DC 20530.

Dated: January 12, 2010.
Ms. Lynn Bryant,
Department Clearance Officer, PRA, U.S. Department of Justice.

[FR Doc. 2010-768 Filed 1-15-10; 8:45 am]

BILLING CODE 4410-18-P